DEPARTMENT OF THE TREASURY

Office of the Comptroller of the Currency

Agency Information Collection Activities; Submission for OMB Review; Comment Request; Examination Questionnaire

AGENCY: Office of the Comptroller of the Currency (OCC), Treasury.

ACTION: Notice and Request for Comment.

SUMMARY: The OCC, as part of its continuing effort to reduce paperwork and respondent burden, invites the general public and other Federal agencies to comment on a continuing information collection, as required by the Paperwork Reduction Act of 1995 (44 U.S.C. chapter 35) (PRA).

Under the PRA, Federal agencies are required to publish notice in the Federal Register concerning each proposed collection of information, including each proposed extension of an existing collection of information.

In accordance with the requirements of the PRA, the OCC may not conduct or sponsor, and the respondent is not required to respond to, an information collection unless it displays a currently valid Office of Management and Budget (OMB) control number.

The OCC is soliciting comments concerning an information collection titled “Examination Questionnaire.”

The OCC also is announcing that the proposed collection of information has been submitted to OMB for review and clearance under the PRA.

DATES: Comments must be submitted by July 5, 2013.

ADDRESSES: Because paper mail in the Washington, DC area and at the OCC is subject to delay, commenters are encouraged to submit comments by e-mail if possible. Comments may be sent to: Legislative and Regulatory Activities Division, Office of the Comptroller of the Currency, Attention: 1557-0199, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Additionally, please send a copy of your comments by mail to: OCC Desk Officer, 1557-0231, U.S. Office of Management and Budget, 725 17th Street NW., #10235, Washington, DC 20503, or by email to: oira_submission@omb.eop.gov.

FOR FURTHER INFORMATION CONTACT: You can request additional information of the collection from Johnny Vilela or Mary H. Gottlieb, Clearance Officers, (202) 649-5490, Legislative and Regulatory Activities Division (1557-0199), Office of the Comptroller of the Currency, 400 7th Street SW., Suite 3E-218, Mail Stop 9W-11, Washington, DC 20219.

SUPPLEMENTARY INFORMATION: In compliance with 44 U.S.C. 3507, the OCC has submitted the following proposed collection of information to OMB for review and clearance.

Examination Questionnaire (OMB Control Number 1557-0199)—Extension

Title: Examination Questionnaire.

OMB Control No.: 1557-0199.

Affected Public: Businesses or other for-profit.

Type of Review: Extension of a currently approved collection.

Abstract: The OCC has revised its Examination Survey and updated the estimated burden hours to adjust for the current number of national banks and thrifts in the OCC's supervisory system. Completed Examination Surveys provide the OCC with the information needed to properly evaluate the content and conduct of OCC examinations. Completed Examination Surveys also help measure the OCC's performance and progress in improving the supervisory experience and agency communications. The OCC will use the information to identify problems or trends that may impair the effectiveness of the examination process, to identify ways to improve its service to the banking industry, and to analyze staffing and training needs. A survey is provided to each national bank or Federal savings association at the conclusion of its supervisory cycle. Bankers will now be able to complete this survey using a secure web-based data collection tool.

The OCC is conducting an Exit Survey of banks and thrifts after they exit the OCC's supervisory and examination system. Completed Exit Surveys will help the OCC understand the underlying reasons why banks and thrifts decide to leave the system. The OCC will use this information to improve its relationships with national banks and Federal savings associations and to identify problems that may impair the effectiveness of the examination and supervisory process. A survey is provided to each bank or thrift after they exit the OCC's supervisory system. Bankers will be able to complete this survey using a secure web-based data collection tool.

Burden Estimates (Examination Survey):

Estimated Number of Respondents: 1,307.

Estimated Number of Responses per Respondent per Year: 0.54.

Estimated Number of Responses: 706.

Estimated time per response: 10 minutes.

Estimated Annual Burden: 118 hours.

Burden Estimates (Exit Survey):

Estimated Number of Respondents: 50.

Estimated Number of Responses per Respondent per Year: 0.25.

Estimated Number of Responses: 12.

Estimated time per response: 5 minutes.

Estimated Annual Burden: 1 hour.

On March 27, 2013, the OCC published a 60-day notice in the Federal Register soliciting comments concerning this information collection. (78 FR 18678), The OCC received no comments in response to the notice.

Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

All comments will become a matter of public record. Written comments should address the accuracy of the burden estimates and ways to minimize burden including the use of automated collection techniques or the use of other forms of information technology as well as other relevant aspects of the information collection request.

Dated: May 30, 2013.
Michele Meyer,
Assistant Director, Legislative and Regulatory Activities Division.

[FR Doc. 2013-13306 Filed 6-4-13; 8:45 am]

BILLING CODE 4810-33-P